DEPARTMENT OF HOUSING AND URBAN DEVELOPMENT

[Docket No. FR-4849-N-04]

Notice of Proposed Information Collection: Comment Requested; Maintenance Wage Rate Recommendation, Certification, and Survey

AGENCY: Office of Departmental Operations and Coordination, Office of Labor Relations, HUD.

ACTION: Notice.

SUMMARY: The proposed information collection requirement described below will be submitted to the Office of Management and Budget (OMB) for review, as required by the Paperwork Reduction Act. The Department is soliciting public comments on the subject proposal.

DATES: Comments Due Date: June 20, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 800a, Washington, DC 20410 or Wayne_Eddins@HUD.gov.

FOR FURTHER INFORMATION CONTACT: Jade Banks, Senior Policy Advisor, Office of Labor Relations, Department of Housing and Urban Development, 451 Seventh Street, Southwest, Washington, DC 20410 or JadeM.Banks@hud.gov, (202) 708-0370 (this is not a toll-free number) for copies of the proposed forms and other available information.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Maintenance Wage Rate Recommendation, Certification and Survey.

OMB Control Number, if applicable: None.

Description of the need for the information and proposed use: Public housing agencies (PHAs) and Tribally-Designated Housing Entities (TDHEs) are required to ensure that maintenance laborers and mechanics are paid no less than prevailing wages that are determined or adopted by HUD (section 12(a), U.S. Housing Act of 1937, as amended; section 104(b), Native American Housing Assistance and Self-Determination Act of 1996, as amended). Except that, TDHEs may, at their discretion, implement tribally-determined prevailing maintenance wage rates which would apply in place of HUD-determined or -adopted wage rates.

HUD determines or adopts a schedule of prevailing maintenance wage rates for each PHA and TDHE (except for those TDHEs that implement tribally-determined prevailing wage rates), annually, coinciding with the agency's fiscal year. In order to ensure that the wage rates are reflective of current economic conditions, HUD requests each PHA and TDHE to submit a recommendation of prevailing wage rates for HUD consideration. PHA and TDHE recommendations may be based on a wide variety of economic indicators including, at the discretion of the PHA or TDHE, the results of a wage survey that the PHA or TDHE may conduct of maintenance employers in their operating jurisdiction. In addition, HUD may conduct a maintenance wage rate survey in the absence of a PHA/TDHE recommendation or to evaluate a recommendation that has been provided by a PHA or TDHE.

In order to assist PHAs and TDHEs to submit prevailing wage recommendations and, if they choose, to conduct and evaluate the results of a maintenance wage survey, and to assist HUD personnel in the conduct and evaluation of a maintenance wage survey, HUD proposes to institute three forms: a Maintenance Wage Rate Recommendation and Certification; a Maintenance Wage Rate Survey Summary; and a Survey of Maintenance Wage Rates. PHA or TDHE submission of a recommendation is highly encouraged by HUD. In the absence of an agency recommendation, HUD will issue a prevailing wage rate schedule based upon its own actions which may include a maintenance wage survey conducted by HUD. Participation in any maintenance wage survey conducted by a PHA, TDHE or HUD, is voluntary on the part of maintenance employers. Maintenance wage rate recommendations, survey summaries and survey responses must be retained by PHAs, TDHEs and HUD to document compliance with the statutory labor standards provisions.

Agency form numbers, if applicable: To be assigned.

Estimation of the total number of hours needed to prepare the information collection including number of respondents, frequency of response, and hours of response:

Item | Number of respondents | Amount of time required (hours) | Total time required/annum (hours)
Maintenance Wage Rate Recommendation | 3,240 | 4 | 12,960
Survey Summary | 1,640 | 4 | 6,560
Survey Form Agency Evaluation | 41,000 | 8 | 328,000
Survey Form Employer Response | 41,000 | 4 | 164,000
Record Keeping | 3,240 | 1 | 3,240
Total Annual Burden |  |  | 514,760

Status of the proposed information collection: Existing collection in use without an OMB control number.

Authority: Section 3506 of the Paperwork Reduction Act of 1995, 44 U.S.C. Chapter 35, as amended.

Dated: April 9, 2003.
Frank L. Davis,
Director, Office Departmental Operations and Coordination.

[FR Doc. 03-9807 Filed 4-18-03; 8:45 am]

BILLING CODE 4210-18-P